FEDERAL MARITIME COMMISSION

Notice of Agreements Filed

The Commission hereby gives notice of the filing of the following agreements under the Shipping Act of 1984. Interested parties may submit comments on the agreements to the Secretary, Federal Maritime Commission, Washington, DC 20573, within ten days of the date this notice appears in the Federal Register. Copies of the agreements are available through the Commission's Web site (http://www.fmc.gov) or by contacting the Office of Agreements at (202)-523-5793 or tradeanalysis@fmc.gov.

Agreement No.: 011275-027.

Title: Australia and New Zealand/United States Discussion Agreement.

Parties: ANL Singapore PTE LTD.; Hamburg-Südamerikanische Dampfschifffahrts-Gesellschaft KG; and Hapag-Lloyd AG.

Filing Party: Wayne R. Rohde, Esq.; Sher & Blackwell LLP; 1850 M Street, NW.; Suite 900; Washington, DC 20036.

Synopsis: The amendment would add A.P. Moller-Maersk A/S trading under the name of Maersk Line as a party to the agreement.

Agreement No.: 011741-013.

Title: U.S. Pacific Coast-Oceania Agreement.

Parties: ANL Singapore PTE Ltd.; A.P. Moller-Maersk A/S; CMA CGM S.A.; Hamburg-Süd; and Hapag-Lloyd AG.

Filing Party: Wayne R. Rohde, Esq.; Sher & Blackwell LLP; 1850 M Street, NW.; Suite 900; Washington, DC 20036.

Synopsis: The amendment would permanently terminate the PSW-2 string from the agreement, revise allocations on the two remaining strings, and add language reflecting the payment of liquidated damages.

Agreement No.: 011794-010.

Title: COSCON/KL/YMUK/Hanjin/Senator Worldwide Slot Allocation & Sailing Agreement.

Parties: COSCO Container Lines Company, Limited; Kawasaki Kisen Kaisha, Ltd.; Yangming (UK) Ltd.; Hanjin Shipping Co., Ltd.; and Senator Lines GmbH.

Filing Party: Robert B. Yoshitomi, Esq.; Nixon Peabody LLP; 555 West Fifth Street, 46th Floor; Los Angeles, CA 90013.

Synopsis: The amendment would delete Senator Lines GmbH as a party to the agreement, update references to EU law, and delete obsolete terms in the agreement.

Agreement No.: 011942-003.

Title: CMA-CGM/CSCL Cross Space Charter, Sailing and Cooperative Working Agreement—Far East/US Gulf Loop, PEX2/PEX3/AAE2 Service.

Parties: CMA-CGM, S.A.; China Shipping Container Lines Co., Ltd.; and China Shipping Container Lines (Hong Kong) Co., Ltd.

Filing Party: Draughn B. Arbona, Esq.; CMA CGM (America) LLC; 5701 Lake Wright Drive; Norfolk, VA 23502.

Synopsis: The amendment updates services provided under the agreement.

Agreement No.: 012069.

Title: CSCL/ELJSA Slot Exchange Agreement.

Parties: China Shipping Container Lines Co., Ltd.; China Shipping Container Lines (Hong Kong) Co. Ltd.; and Evergreen Line Joint Service Agreement.

Filing Party: Tara L. Leiter, Esq.; Blank Rome, LLP; Watergate; 600 New Hampshire Avenue, NW.; Washington, DC 20037.

Synopsis: The agreement authorizes the parties to exchange container slots in the trade between U.S. Pacific Coast ports and ports in China, Hong Kong, South Korea, and Taiwan.

Agreement No.: 012070.

Title: CSCL/ELJSA Vessel Sharing Agreement-Asia and Mexico, U.S. East Coast Service.

Parties: China Shipping Container Lines Co., Ltd.; China Shipping Container Lines (Hong Kong) Co., Ltd.; and Evergreen Lines Joint Service Agreement.

Filing Party: Tara L. Leiter, Esq.; Blank Rome, LLP; Watergate; 600 New Hampshire Avenue, NW.; Washington, DC 20037.

Synopsis: The agreement authorizes the parties to share vessel space between United States Atlantic Coast ports and ports in Asia and Mexico.

Agreement No.: 200163-003.

Title: Gulf Seaports Marine Terminal Conference.

Parties: Board of Commissioners of the Port of New Orleans; Lake Charles Harbor and Terminal District; Port of Greater Baton Rouge; Orange County Navigation and Port District; Mississippi State Port Authority; Port of Beaumont Navigation District of Jefferson County, Texas; Port of Houston Authority of Harris County, Texas; Board of Trustees of the Galveston Wharves; Alabama State Port Authority; Port of South Louisiana; Brownsville Navigation District; Port of Port Arthur Navigation District of Jefferson County, Texas; Tampa Port Authority; Port of Corpus Christi Authority of Nueces County, Texas; Panama City Port Authority; Port of Pensacola; Port Freeport; Jackson County Port Authority; Manatee Port Authority; St. Bernard Port, Harbor and Terminal District; and Plaquemines Port, Harbor and Terminal District.

Filing Party: Allen Moeller, Chairman; Port of Pascagoula; 3033 Pascagoula Street; Pascagoula, MS 39567.

Synopsis: The amendment updates agreement language and membership list.

Agreement No.: 201202.

Title: Oakland MTO Agreement.

Parties: Eagle Marine Services, Ltd.; Seaside Transportation Service LLC; SSA Terminals (Oakland), LLC; Total Terminals International, LLC; Transbay Container Terminal, Inc.; and Trapac, Inc.

Filing Party: David F. Smith, Esq.; Sher & Blackwell LLP; 1850 M Street, NW.; Suite 900; Washington, DC 20036.

Synopsis: The agreement would authorize the parties to discuss, exchange information, and reach agreement regarding various matters pertaining to their operations at the Port of Oakland.

Dated: June 5, 2009.
By Order of the Federal Maritime Commission.
Tanga S. FitzGibbon,
Assistant Secretary.

[FR Doc. E9-13633 Filed 6-10-09; 8:45 am]

BILLING CODE 6730-01-P